ENVIRONMENTAL PROTECTION AGENCY

40 CFR Part 50

National Primary and Secondary Ambient Air Quality Standards

CFR Correction

In Title 40 of the Code of Federal Regulations, parts 50 to 51, revised as of July 1, 2001, on page 62, in Part 50 Appendix H, under the third heading, the fifth paragraph is amended by correcting the formula to read as follows:

Appendix H to Part 50—Interpretation of the 1-Hour Primary and Secondary National Ambient Air Quality Standards for Ozone

* * * * *

3. Estimating the Number of Exceedances for a Year

* * * * *

* * * * *

[FR Doc. 02-55506 Filed 3-14-02; 8:45 am]

BILLING CODE 1505-01-D